DEPARTMENT OF JUSTICE

Antitrust Division

Notice Pursuant to the National Cooperative Research and Production Act of 1993—Catalytica Advanced Technologies

Notice is hereby given that, on July 24, 2000, pursuant to Section 6(a) of the National Cooperative Research and Production Act of 1993, 15 U.S.C. 4301 et seq. (“the Act”), Catalytica Advanced Technologies has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Catalytica Advanced Technologies, Inc., Mountain View, CA; and Argonaut Technologies, Inc., San Carlos, CA. The nature and objectives of the venture are to conduct research on the discovery and development of emission control catalysts for lean burn engines using a novel, rapid Catalyst Development Engine. The activities of this Joint Venture project will be partially funded by an award from the Advanced Technology Program, National Institute of Standards and Technology, Department of Commerce.

Constance K. Robinson,
Director of Operations, Antitrust Division.

[FR Doc. 00-25898 Filed 10-6-00; 8:45 am]

BILLING CODE 4410-11-M